DEPARTMENT OF DEFENSE

Office of the Secretary

[Docket ID: DOD-2012-OS-0044]

Privacy Act of 1974; System of Records

AGENCY: Defense Intelligence Agency, DoD.

ACTION: Notice to alter a system of records.

SUMMARY: The Defense Intelligence Agency proposes to alter a system of records in its inventory of record systems subject to the Privacy Act of 1974 (5 U.S.C. 552a), as amended.

DATES: This proposed action will be effective further notice on May 14, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Boulevard, Washington, DC 20340-0001, or by phone at (202) 231-1193.

SUPPLEMENTARY INFORMATION: The Defense Intelligence Agency system of records notices subject to the Privacy Act of 1974 (5 U.S.C. 552a), as amended, have been published in the Federal Register and are available from the address in FOR FURTHER INFORMATION CONTACT. The proposed system report, as required by 5 U.S.C. 552a(r) of the Privacy Act of 1974, as amended, was submitted on April 6, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 9, 2012.
Aaron Siegel,
Alternate OSD Federal Register Liaison Officer, Department of Defense.

LDIA 0435

DIA Military Awards Files (March 18, 2010, 75 FR 13089)

Changes:

* * * * *

System name:

Delete entry and replace with “DIA Military Recognition and Awards Files.”

System location:

Delete entry and replace with “Defense Intelligence Agency, 200 MacDill Boulevard, Washington, DC 20340-0001.”

Categories of individuals covered by the system:

Delete entry and replace with “Military personnel recommended for recognition or awards while assigned or attached to DIA.”

Categories of records in the system:

Delete entry and replace with “Full name, rank, service affiliation, and Social Security Number (SSN) of individual, supporting documents for the awards nomination and the results of actions or recommendations of endorsing and approving officials for recognition and awards.”

Authority for maintenance of the system:

Delete entry and replace with “10 U.S.C. 1125, Recognition for Accomplishments: award of trophies; Department of Defense Manual 1348.33, Volumes 1, 2, 3, Manual of Military Decorations; Defense Intelligence Agency Instruction 1348.001, Military Personnel Awards; Defense Intelligence Agency Instruction 1305.001, Military Quarterly and Annual Recognition Program; Army Regulation 600-8-22, Military Awards; SECNAV Inst 1650.1H, Navy and Military Awards Instruction; Air Force Instruction 36-2803, Air Force Awards and Decorations Program; and E.O. 9397 (SSN), as amended.”

Purpose(s):

Delete entry and replace with “Information is collected and submitted to determine eligibility for recognition, awards, and decorations to individuals and units while assigned or attached to the DIA. Information is required for preparation of orders for award citation and inclusion in individual's Service record. Records are used to obtain the approval for the awarding of the decoration, for the compilation of required statistical data and provided to the Military departments when appropriate.”

* * * * *

Storage:

Delete entry and replace with “Paper and electronic storage media.”

* * * * *

Retention and disposal:

Delete entry and replace with “Temporary Records: Award citations and accompanying records are maintained for 3 years then retired to the Washington National Records Center where they are destroyed when 15 years old. The records are destroyed by shredding/erasure. Justification for the award records are maintained for 3 years within DIA and then destroyed by shredding or deleting from database.”

System manager(s) and address:

Delete entry and replace with “Deputy Director for Human Capital, ATTN: Military Awards, Defense Intelligence Agency, 200 MacDill Boulevard, Washington, DC 20340-0001.”

Notification procedure:

Delete entry and replace with “Individuals seeking to determine whether information about themselves is contained in this system of records should address written inquiries to the Freedom of Information Act Office (DAN-1A/FOIA), Defense Intelligence Agency, 200 MacDill Boulevard, Washington, DC 20340-0001.

The individual should provide their full name, current address, and telephone number.”

Record access procedures:

Delete entry and replace with “Individuals seeking access to information about themselves contained in this system should address written inquiries to the Freedom of Information Act Office (DAN-1A/FOIA), Defense Intelligence Agency, 200 MacDill Boulevard, Washington, DC 20340-0001.

The individual should provide their full name, current address, and telephone number.”

Contesting record procedures:

Delete entry and replace with “DIA's rules for accessing records, for contesting contents and appealing initial agency determinations are published in DIA Instruction 5400-001 Defense Intelligence Agency Privacy Program; 32 CFR part 319 or may be obtained from the system manager.”

Record source categories:

Delete entry and replace with “Individuals, Agency officials, parent service and personnel records.”

* * * * *

[FR Doc. 2012-8835 Filed 4-11-12; 8:45 am]

BILLING CODE 5001-06-P